DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: National Marine Sanctuary Permits.

OMB Control Number: 0648-0141.

Form Number(s): None.

Type of Request: Regular (extension of a currently approved information collection).

Number of Respondents: 555.

Average Hours per Response: General permits, 1 hour and 30 minutes; special use permits, 8 hours; historical resources permits, 13 hours; baitfish permits and lionfish removal permits, 5 minutes; permit amendments and certifications, 30 minutes; voluntary registrations, 15 minutes; appeals, 24 hours; Tortugas access permits, 6 minutes.

Burden Hours: 2,095.

Needs and Uses: This request is for extension of a currently approved information collection.

National marine sanctuary regulations at 15 CFR part 922 list specific activities that are prohibited in national marine sanctuaries. These regulations also state that otherwise prohibited activities are permissible if a permit is issued by the Office of National Marine Sanctuaries (ONMS). Persons desiring a permit must submit an application, and anyone obtaining a permit is generally required to submit one or more reports on the activity allowed under the permit.

The recordkeeping and reporting requirements at 15 CFR part 922 form the basis for this collection of information. This information is required by ONMS to protect and manage sanctuary resources as required by the National Marine Sanctuaries Act (16 U.S.C. 1431 et seq.).

Affected Public: Business or other for-profit organizations; individuals or households; not-for-profit institutions; Federal government; state, local, or tribal government.

Frequency: Annually and on occasion.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: March 14, 2018.
Sarah Brabson,
NOAA PRA Clearance Officer.

[FR Doc. 2018-05507 Filed 3-16-18; 8:45 am]

BILLING CODE 3510-NK-P